ENVIRONMENTAL PROTECTION AGENCY

[FRL-8954-2]

Local Government Advisory Committee

AGENCY: Environmental Protection Agency (EPA).

ACTION: Request for Nominations to the Local Government Advisory Committee (LGAC).

SUMMARY: The U.S. Environmental Protection Agency (EPA) invites nominations from a diverse range of qualified candidates to be considered for appointment to its Local Government Advisory Committee (LGAC). Vacancies are anticipated to be filled by January 2010. Sources in addition to this Federal Register Notice may also be utilized in the solicitation of nominees.

Background: The LGAC is a federal advisory committee chartered under the Federal Advisory Committee Act (FACA), Public Law 92-463. EPA established the LGAC in 1993 to provide independent advice to the EPA Administrator on a broad range of environmental issues affecting local government. Members serve as local elected and appointed officials representing: counties, cities, and other local governments; small communities; tribal governments; and state governments. Members are appointed by the EPA Administrator for two year terms with the possibility of reappointment to a second term. The LGAC usually meets 2-3 times annually and the average workload for the members is approximately 5 to 10 hours per month. EPA provides reimbursement for travel and other incidental expenses associated with official government business. EPA is seeking nominations from mayors, city council members, county commissioners and executives, city managers, small town officials, public works and environmental directors, tribal governments, and state officials including legislators and environmental directors. Nominees will be considered according to the mandates of FACA, which requires committees to maintain diversity across a broad range of constituencies, sectors, interests, and groups. EPA strongly encourages nominations from women and minorities.

The following criteria will be used to evaluate nominees:

—Experience serving as an elected official;

—Experience serving as an appointed official for a state, county, city or tribe;

—Experience in working at the national level on local governments issues;

—Demonstrated experience with environmental and sustainability issues;

—Executive management level experience with membership in broad-based networks;

—Excellent interpersonal, oral and written communication, and consensus-building skills.

—Ability to volunteer time to attend meetings 2-3 times a year, participate in teleconference meetings, attend listening sessions with the Administrator or other senior-level officials, develop policy recommendations to the Administrator, and prepare reports and advice letters. Nominations must include a resume and a short biography describing the professional and educational qualifications of the nominee, as well as the nominee's current business address, e-mail address, and daytime telephone number. Interested candidates may self-nominate.

ADDRESSES: Submit nominations to: Frances Eargle, Designated Federal Officer, Office of Congressional and Intergovernmental Relations, U.S. Environmental Protection Agency (1301A), 1200 Pennsylvania Avenue, NW., Washington, DC 20460. You may also e-mail nominations with subject line LGACRESUME2009 to eargle.frances@epa.gov.

FOR FURTHER INFORMATION CONTACT: Frances Eargle, Designated Federal Officer, U.S. EPA; telephone (202) 564-3115; fax: (202) 564-1544.

Dated: August 25, 2009.
Frances Eargle,
Designated Federal Officer, Local Government Advisory Committee.

[FR Doc. E9-21547 Filed 9-4-09; 8:45 am]

BILLING CODE 6560-50-P